NATIONAL AERONAUTICS AND SPACE ADMINISTRATION

[Notice 12-014]

NASA Advisory Council; Education and Public Outreach Committee; Meeting

AGENCY: National Aeronautics and Space Administration.

ACTION: Notice of meeting.

SUMMARY: In accordance with the Federal Advisory Committee Act, Public Law 92-463, as amended, the National Aeronautics and Space Administration announces a meeting of the Education and Public Outreach Committee of the NASA Advisory Council (NAC).

DATES: Monday, March 5, 2012, 9 a.m. to 5 p.m., local Time.

ADDRESSES: NASA Headquarters, 300 E Street SW., Washington, DC 20546, Room 5H45-A.

FOR FURTHER INFORMATION CONTACT: This meeting will also take place telephonically and via WebEx. Any interested person should contact Ms. Erika G. Vick, Executive Secretary for the Education and Public Outreach Committee, National Aeronautics and Space Administration, Washington, DC, at Erika.vick-1@nasa.gov, no later than 4 p.m., local time, March 1, 2012, to get further information about participating via teleconference and/or WebEx.

SUPPLEMENTARY INFORMATION: The agenda for the meeting includes the following topics:

—NASA Budget Overview

—Education Redesign Status

—Public Outreach Status with focus on Participatory Engagement Initiative

—Remarks by New NAC Chair

—Messaging Strategy for Education and Public Outreach

The meeting will be open to the public up to the seating capacity of the room. It is imperative that the meeting be held on this date to accommodate the scheduling priorities of the key participants. Visitors will need to show a valid picture identification such as a driver's license to enter the NASA Headquarters building (West Lobby—Visitor Control Center), and must state that they are attending the NASA Advisory Council Education and Public Outreach Committee meeting in Room 5H45-A, before receiving an access badge. Foreign nationals must fax a copy of their passport, and print or type their name, current address, citizenship, company affiliation (if applicable) to include address, telephone number, and their title, place of birth, date of birth, U.S. visa information to include type, number, and expiration date, U.S. Social Security Number (if applicable), and place and date of entry into the U.S., fax to Erika Vick, NASA Advisory Council Education and Public Outreach Committee Executive Secretary, FAX: (202) 358-4332, by no later than Monday, February 27, 2012. To expedite admittance, attendees with U.S. citizenship can provide identifying information three working days in advance by contacting Erika Vick via email at erika.vick-1@nasa.gov or by telephone at (202) 358-2209 or fax: (202) 358-4332.

Patricia D. Rausch,
Advisory Committee Management Officer, National Aeronautics and Space Administration.

[FR Doc. 2012-3777 Filed 2-16-12; 8:45 am]

BILLING CODE 7510-13-P